DEPARTMENT OF TRANSPORTATION

Office of the Secretary

Privacy Act of 1974: System of Records

AGENCY: Transportation Security Administration, DOT.

ACTION: Notice to establish three systems of records.

SUMMARY: DOT proposes to establish three systems of records under the Privacy Act of 1974 and to exempt them from certain provisions of the Act.

EFFECTIVE DATE: January 27, 2003. If no comments are received, the proposal will become effective on the above date. If comments are received, the comments will be considered and, where adopted, the documents will be republished with changes.

FOR FURTHER INFORMATION CONTACT: Yvonne L. Coates, Department of Transportation, Office of the Secretary, 400 7th Street, SW., Washington, DC 20590, (202) 366-6964 (telephone), (202) 366-7024 (fax), Yvonne.Coates@ost.dot.gov (Internet address).

SUPPLEMENTARY INFORMATION: The Department of Transportation systems of records notices subject to the Privacy Act of 1974 (5 U.S.C. 552a), as amended, have been published in the Federal Register and are available from the above mentioned address.

DOT/TSA 001

System Name:

Transportation Security Enforcement Record System (TSERS).

Security Classification:

Classified, sensitive.

System Location:

Records are maintained in the Office of Chief Counsel, the Office of the Associate Under Secretary for Aviation Operations, and the Office of the Associate Under Secretary for Inspection, Transportation Security Administration (TSA), Department of Transportation, 400 7th Street, SW., Washington, DC 20590. Records will also be maintained at the various TSA field offices.

Categories of Individuals Covered by the System:

Owners, operators, and employees in all modes of transportation for which TSA has security-related duties; witnesses; passengers undergoing screening of their person or property; and individuals against whom investigative, administrative, or legal enforcement action has been initiated for violation of certain Transportation Security Administration Regulations (TSR), relevant provisions of 49 U.S.C. chapter 449, or other laws.

Categories of Records in the System:

Information related to the screening of passengers and property and the investigation or prosecution of any alleged violation, including name of and demographic information about alleged violators and witnesses; place of violation; Enforcement Investigative Reports (EIRs); security incident reports, screening reports, suspicious-activity reports and other incident or investigative reports; statements of alleged violators and witnesses; proposed penalty; investigators' analyses and work papers; enforcement actions taken; findings; documentation of physical evidence; correspondence of TSA employees and others in enforcement cases; pleadings and other court filings; legal opinions and attorney work papers.

Authority for Maintenance of the System:

49 U.S.C. 114(d), 44901, 44903, 44916, 46101, 46301.

Purpose(s):

The records are created in order to maintain a civil enforcement and inspections system for all modes of transportation for which TSA has security related duties. They may be used, generally, to identify, review, analyze, investigate, and prosecute violations or potential violations of transportation security laws.

Routine Uses of Records Maintained in the System, Including Categories of Users and the Purposes of Such Uses:

(1) Furnish responses to queries from Federal, State, tribal, territorial, and local law enforcement and regulatory agencies, both foreign and domestic, regarding individuals who may pose a risk to transportation or national security; a risk of air piracy or terrorism or a threat to airline or passenger safety; or a threat to aviation safety, civil aviation, or national security.

(2) Furnish information to airport operators, aircraft operators, and maritime and land transportation operators about individuals who are their employees, job applicants, or contractors, or persons to whom they issue identification credentials, or grant clearances to secured areas in transportation facilities.

(3) Disclose information to a Federal, State, or local agency, maintaining a civil, criminal or other relevant enforcement information or other pertinent information, that has requested information relevant to or necessary to the requesting agency's or the bureau's hiring or retention of an individual, or issuance of a security clearance, license, contract, grant, or other benefit.

(4) Furnish information to the news media in accordance with the guidelines contained in 28 CFR 50.2, which relate to civil and criminal proceedings.

(5) Furnish information to the Department of State and the Intelligence Community to further those agencies' efforts with respect to individuals who may pose a risk to transportation or national security; a risk of air piracy or terrorism or a threat to airline or passenger safety; or a threat to aviation safety, civil aviation, or national security.

(6) Provide information or records, when appropriate, to international and foreign governmental authorities in accordance with law and formal or informal international agreement.

(7) To any person performing a contract for TSA to the extent necessary to perform the contract.

(8) To any agency or instrumentality charged under applicable law with the protection of the public health or safety under exigent circumstances where the public health or safety is at risk.

(9) To provide information contained in the records to third parties during the course of any law enforcement investigation into violations or potential violations of transportation security laws to the extent necessary to obtain information pertinent to the investigation.

(10) To the Department of Justice, United States Attorney's Office, or other Federal agencies for further collection action on any delinquent debt when circumstances warrant.

(11) To a debt collection agency for the purpose of debt collection. See also DOT Prefatory Statement of General Routine Uses.

Disclosure to Consumer Reporting Agencies:

Privacy Act information may be reported to consumer reporting agencies pursuant to 5 U.S.C. 552a(b)(12) collecting on behalf of the United States Government.

Policies and Practices for Storing, Retrieving, Accessing, Retaining, and Disposing of Records in the System:

Storage:

Records are maintained on paper and in computer-accessible storage media. Records are also stored on microfiche and roll microfilm.

Retrievability:

Records are retrieved by name, address, social security account number, administrative action or legal enforcement numbers, or other assigned identifier of the individual on whom the records are maintained.

Safeguards:

Access to TSA working and storage areas is restricted to DOT employees on a “need to know” basis. Strict control measures are enforced to ensure that access to classified and/or sensitive information in these records is also based on “need to know.” Electronic access is limited by computer security measures that are strictly enforced. Generally, TSA file areas are locked after normal duty hours and the facilities are protected from the outside by security personnel.

Retention and Disposal:

National Archives and Records Administration approval is pending for the records in this system. Paper records and information stored on electronic storage media are maintained within TSA for 5 years and then forwarded to Federal Records Center. Records are destroyed after 10 years.

System Manager(s) and Address:

Information Systems Program Manager, Office of the Chief Counsel, Transportation Security Administration, GSA Regional Office Building Room 5002, 400 7th Street, SW., Washington, DC 20590.

Notification Procedure:

Individuals who wish to determine whether this system of records contains information about them should contact the System Manager at the above address. Inquiries should include the individual's full name, social security number, and return address.

Record Access Procedure:

See “Notification Procedure.” Individuals requesting access must comply with the DOT's Privacy Act regulations on verification of identity (49 CFR 10.37).

Contesting Record Procedures:

See “Notification Procedure.”

Record Source Categories:

Information contained in this system is obtained from the alleged violator, TSA employees or contractors, witnesses to the alleged violation or events surrounding the alleged violation, other third parties who provided information regarding the alleged violation, state and local agencies, and other Federal agencies.

Exemptions Claimed for the System:

Portions of this system are exempt under 5 U.S.C. 552a(k)(2).

DOT/TSA 002

System Name:

Transportation Workers Employment Investigations System (TWEI).

Security Classification:

Classified, sensitive.

System Location:

Records are maintained at the offices of the Transportation Security Administration (TSA), Department of Transportation (DOT), 400 7th Street, SW., Washington, DC 20590. Some records may also be maintained at the offices of a TSA contractor, or in TSA field offices.

Categories of Individuals Covered by the System:

a. Individuals, other than employees of Federal, State, tribal, territorial, and local governments (including law enforcement officers), who require or seek access to airport sterile areas; have unescorted access authority to a security identification display area (SIDA); have authority to grant others unescorted access to a SIDA; are seeking unescorted access authority to a SIDA; are seeking to have authority to grant others unescorted access to a SIDA; have regular escorted access to a SIDA; or are seeking regular escorted access to a SIDA.

b. Individuals who have or are seeking responsibility for screening passengers or carry-on baggage, and those individuals serving as immediate supervisors and the next supervisory level to those individuals, other than employees of the TSA who perform or seek to perform these functions.

c. Individuals who have or are seeking responsibility for screening checked baggage or cargo, and their immediate supervisors, other than employees of the TSA who perform or seek to perform these functions.

d. Individuals who have or are seeking the authority to accept checked baggage for transport on behalf of an aircraft operator that is required to screen passengers.

e. Pilots, flight engineers, flight navigators, and flight attendants assigned to duty in an aircraft during flight time for an aircraft operator that is required to adopt and carry out a security program.

f. Individuals, other than employees of Federal, State, tribal, territorial, and local governments, who have or are seeking access to a transportation facility in the maritime or land transportation system.

g. Other individuals who are connected to the transportation industry for whom TSA may be required by statute to conduct background investigations to provide an adequate level of transportation security.

Categories of Records in the System:

TSA's automated system may contain any or all of the following: (a) Name; (b) social security number; (c) date of birth; (d) submitting office number of the airport, aircraft operator, or maritime or land transportation operator submitting the individual's information; (e) OPM case number; (f) other data as required by form FD 258 (fingerprint card); (g) dates of submission and transmission of the information, as necessary to assist in tracking submissions, payments, and transmission of records; (h) identification records obtained from the Federal Bureau of Investigation (FBI), which are compilations of criminal history record information pertaining to individuals who have criminal fingerprints maintained in the FBI's Fingerprint Identification Records System (FIRS); (i) data gathered from foreign governments that is necessary to address security concerns in the aviation, maritime, or land transportation systems; (j) information provided by the Central Intelligence Agency and other members of the Intelligence Community, and (k) other information provided by the information systems of other Federal, State, tribal, and local governmental agencies.

Authority for maintenance of the system:

49 U.S.C. sections 114 and 44936.

Purpose(s):

To facilitate the performance of employment investigations, including fingerprint-based criminal history records checks (CHRCs), which Federal law and TSA regulations require for the individuals identified in “Categories of individuals covered by the system” above.

a. To assist in the management and tracking of the status of employment investigations.

b. To permit the retrieval of the results of employment investigations, including criminal history records checks and searches in other governmental identification systems, performed on the individuals covered by this system.

c. To permit the retrieval of information from other law enforcement and intelligence databases on the individuals covered by this system.

d. To track the fees incurred and payment of those fees by the airport operators, aircraft operators, and maritime and land transportation operators for services related to the employment investigations.

e. To facilitate the performance of other investigations that TSA may be required by statute to complete to provide an adequate level of transportation security.

Routine uses of records maintained in the system, including categories of users and the purposes of such uses:

(1) Furnish information or records, electronically or manually, to contractors, grantees, experts, consultants, agents and other non-DOT employees performing or working on a contract, service, grant, cooperative agreement, or other assignment from the Federal government for the purpose of providing consulting, data processing, clerical, or secretarial functions to assist TSA in all functions relevant to the employment investigations.

(2) Furnish to airport operators, aircraft operators, and maritime and land transportation operators that are required to conduct an employment investigation, or to be informed of the results of an employment investigation, for individuals covered by this system pursuant to 49 U.S.C. 114 and 44936 and regulations in 49 CFR chapter XII.

(3) Furnish to the Office of Personnel Management (OPM), the FBI, and other government agencies, as necessary, to conduct the employment investigations and to facilitate payment and accounting.

(4) Furnish responses to queries from Federal, State, tribal, territorial, and local law enforcement and regulatory agencies, both foreign and domestic, regarding individuals who may pose a risk to transportation or national security; a risk of air piracy or terrorism or a threat to airline or passenger safety; or a threat to aviation safety, civil aviation, or national security.

(5) Furnish information to individuals and organizations, in the course of enforcement efforts, to the extent necessary to elicit information pertinent to the investigation, prosecution, or enforcement of civil or criminal statutes, rules, regulations or orders regarding individuals who may pose a risk to transportation or national security; a risk of air piracy or terrorism or a threat to airline or passenger safety; or a threat to aviation safety, civil aviation, or national security.

(6) Disclose information to a Federal, State, tribal, territorial, or local agency maintaining a civil, criminal or other relevant enforcement information or other pertinent information, that has requested information relevant to or necessary to the requesting agency's or the bureau's hiring or retention of an individual, or issuance of a security clearance, license, contract, grant, or other benefit.

(7) Furnish information to the news media in accordance with the guidelines contained in 28 CFR 50.2, which relate to civil and criminal proceedings.

(8) Furnish information to the Department of State and the Intelligence Community to further those agencies' efforts with respect to individuals who may pose a risk to transportation or national security; a risk of air piracy or terrorism or a threat to airline or passenger safety; or a threat to aviation safety, civil aviation, or national security.

(9) Provide information or records, when appropriate, to international and foreign governmental authorities in accordance with law and formal or informal international agreement.

Disclosure to consumer reporting agencies:

None.

Policies and Practices for Storing, Retrieving, Accessing, Retaining, and disposing of records in the system:

Storage:

In electronic storage media and hard copy.

Retrievability:

TSA system administrators can retrieve information by the unique “submitting office number” of the aviation, maritime, or land transportation operator that submitted the individual's information, the individual's social security number, individual's name and date of birth, the date the request was scheduled for processing, date the investigation is closed, and the OPM case number.

Aviation, maritime, and land transportation operators retrieve the status and results of the employment investigations only for those individuals whose information they have submitted, and can do so electronically. Aviation, maritime, and land transportation operators use their submitting office number combined with the social security number of the requested subject to retrieve an individual's records.

Safeguards:

All records are protected from unauthorized access through appropriate administrative, physical, and technical safeguards. These safeguards include restricting access to those authorized with a need-to-know; using locks, alarm devices, and passwords; and encrypting data communications.

Retention and disposal:

National Archives and Records Administration approval is pending for the records in this system. The request is for all records to be purged one year after receipt by TSA.

System manager(s) and address:

Director of Security, Office of Finance and Administration, TSA, 400 7th Street, SW., Washington, DC 20590.

Notification procedure:

To determine whether this system contains records relating to you, write to the System Manager identified above.

Record access procedures:

Same as “Notification Procedures” above. Provide your full name and a description of information that you seek, including the time frame during which the record(s) may have been generated. Individuals requesting access must comply with the DOT's Privacy Act regulations on verification of identity (49 CFR 10.37).

Contesting Record Procedures:

Same as “Notification Procedures,” and “Record Access Procedures” above.

Record Source Categories:

Information is collected from individuals subject to a criminal history records check under 49 U.S.C. 114 and 44936 and 49 CFR chapter XII. Information is also collected from aviation, maritime, and land transportation operators. Information is also collected from domestic and international intelligence sources, including the Central Intelligence Agency. The sources of information in the criminal history records obtained from the FBI are set forth in the Department of Justice Privacy Act system of records notice “JUSTICE/FBI-009.”

Exemptions Claimed for the System:

Portions of this system are exempt under 5 U.S.C. 552a(k)(1) and (k)(2).

DOT/TSA 004

System Name:

Personnel Background Investigation File System.

Security Classification:

Classified, sensitive.

System Location:

Records are maintained at the offices of the Transportation Security Administration (TSA), Department of Transportation (DOT), 400 7th Street, SW., Washington, DC 20590. Some records may also be maintained at the offices of a TSA contractor, or in TSA field offices.

Categories of Individuals Covered by the System:

Current and former TSA employees, applicants for TSA employment, and TSA contract employees.

Categories of Records in the System:

The system contains an index reference record used to track the status of an applicant's background investigation, standard form 85P—Questionnaire For Public Trust Positions,” investigative summaries and compilations of criminal history record checks, and administrative records and correspondence incidental to the background investigation process.

Authority for Maintenance of the System:

5 U.S.C. 3301, 3302; 49 U.S.C. 114, 44935; and Executive Orders 10,450, 10,577, and 12,968.

Purpose(s):

The system will maintain investigative and background records used to make suitability and eligibility determinations for the individuals listed under “Categories of individuals.”

Routine Uses of Records Maintained in the System, Including Categories of Users and the Purposes of Such Uses:

1. Except as noted in Question 14 of the Questionnaire for Public Trust Positions, when a record on its face, or in conjunction with other records, indicates a violation or potential violation of law, whether civil, criminal, or regulatory in nature, and whether arising by general statute, particular program statute, regulation, rule, or order issued pursuant thereto, the relevant records may be disclosed to the appropriate Federal, State, tribal, territorial, foreign, local, or other public authority responsible for enforcing, investigating or prosecuting such violation or charged with enforcing or implementing the statute, rule, regulation or order.

2. To any source or potential source from which information is requested in the course of an investigation concerning the hiring or retention of an employee or other personnel action, or the issuing or retention of a security clearance, contract, grant, license, or other benefit, to the extent necessary to identify the individual, inform the source of the nature and purpose of the investigation, and to identify the type of information requested.

3. To contractors, grantees, experts, consultants, or volunteers when necessary to perform a function or service related to this record for which they have been engaged. Such recipients are required to comply with the Privacy Act, 5 U.S.C. 552a, as amended.

4. To contractors, grantees, experts, consultants or volunteers to communicate the results of a suitability and/or eligibility determination for their employee or contractor, or for any other individual performing work for the agency under their direction and control.

5. To any agency or instrumentality charged under applicable law with the protection of the public health or safety under exigent circumstances where the public health or safety is at risk.

See also Department of Transportation Prefatory Statement of General Routine Uses.

Disclosure to Consumer Reporting Agencies:

None.

Policies and Practices for Storing, Retrieving, Accessing, Retaining, and Disposing of Records in the System:

Storage:

Records are maintained on paper and in computer-accessible storage media. Records are also stored on microfiche and roll microfilm.

Retrievability:

Records are retrieved by name, address, and social security account number or other assigned tracking identifier of the individual on whom the records are maintained.

Safeguards:

Access to TSA working and storage areas is restricted to DOT employees on a “need to know” basis. Strict control measures are enforced to ensure that access to these records is also based on “need to know.” Generally, TSA file areas are locked after normal duty hours and the facilities are protected from the outside by security personnel.

Retention and Disposal:

Paper records and information stored on electronic storage are destroyed upon notification of death or not later than 5 years after separation or transfer of employee or no later than 5 years after contract relationship expires, whichever is applicable.

System Manager(s) and Address:

Director, Office of Security, Transportation Security Administration, 400 7th Street, SW., Washington, DC 20590.

Notification Procedure:

To determine whether this system contains records relating to you, write to the System Manager identified above.

Record Access Procedures:

Same as “Notification Procedures” above. Provide your full name and a description of information that you seek, including the time frame during which the record(s) may have been generated. Individuals requesting access must comply with the Department of Transportation's Privacy Act regulations on verification of identity (49 CFR 10.37).

Contesting Record Procedures:

Same as “Notification Procedure,” and “Record Access Procedures” above.

Record Source Categories:

Information contained in this system is obtained from the job applicant on the Questionnaire For Public Trust Positions, law enforcement and intelligence agency record systems, publicly-available government records and commercial data bases.

Exemptions Claimed for the System:

Portions of this system are exempt under 5 U.S.C. 552a(k)(5).

OMB Control Numbers:

OMB No. 3206-0191, standard form 85P—Questionnaire For Public Trust Positions.

Dated: December 10, 2002.
Yvonne L. Coates,
Privacy Act Coordinator.

[FR Doc. 02-31594 Filed 12-16-02; 8:45 am]

BILLING CODE 4910-62-P